DEPARTMENT OF COMMERCE

National Oceanic and Atmospheric Administration

Proposed Information Collection; Comment Request; Mariner Opinions of the Right Whale Mandatory Ship Reporting System

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 9, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Kristy Wallmo, 301-427-8190 or Kristy.Wallmo@noaa.gov.

SUPPLEMENTARY INFORMATION:

I. Abstract

This request is for a new information collection.

The North Atlantic right whale (Eubalaena glacialis) is an endangered marine mammal found primarily in waters off the northeastern coast of the United States to Canada. Fatal collisions with large ships are the primary threat to the recovery of this species. In 1998 the United States proposed to the International Maritime Organization (IMO) the establishment of two Mandatory Ship Reporting (MSR) systems in key right whale habitat areas. Under the proposed MSR all vessels 300 gross tons or greater are required to send a message to a shore-based station when entering either of two prescribed habitat areas. The IMO endorsed the proposal and the MSR systems were established in July 1999. Each reporting ship is required to provide vessel name, call sign, course, speed, location, destination, and route (e.g., waypoints). An automatically-generated message is sent directly to the reporting vessel that includes information on right whale locations and procedural guidance to help prevent vessel/whale collisions; mariners are also informed about additional regulations established to protect whales from vessel strikes. The two-way exchange is mediated by satellite-linked communications systems.

Although the program has been in effect for over 15 years, the U.S. Government has not assessed the role, if any, that the MSR has in reducing ship collisions with right whales. In addition, mariners have not been polled to assess possible difficulties involved in the reporting itself. The goal of this information collection is to determine if (a) the reporting procedures are adequately clear to the mariner; (b) the reporting itself is onerous or unwieldy (e.g., it may interfere with other vessel operations); and (c) mariners use the information being sent to them and if so, how it is used to avoid collisions with North Atlantic right whales.

II. Method of Collection

This will be a web-based survey.

III. Data

OMB Control Number: 0648-xxxx.

Form Number(s): None.

Type of Review: Regular submission (request for a new information collection).

Affected Public: Business or other for-profit organizations.

Estimated Number of Respondents: 2,000.

Estimated Time per Response: 5 minutes.

Estimated Total Annual Burden Hours: 167.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 3, 2014.
Glenna Mickelson,
Management Analyst, Office of the Chief Information Officer.

[FR Doc. 2014-28719 Filed 12-8-14; 8:45 am]

BILLING CODE 3510-22-P